DEPARTMENT OF THE INTERIOR

Minerals Management Service

Outer Continental Shelf, Gulf of Mexico Region, Proposed Eastern Planning Area Draft Environmental Impact Statement

AGENCY: Minerals Management Service.

ACTIONS: Notice of availability of the Draft Environmental Impact Statement and public hearings on proposed Eastern Planning Area oil and gas lease sales 189 and 197.

SUMMARY: The U.S. Department of the Interior, Minerals Management Service (MMS) has prepared a draft environmental impact statement (EIS) on two proposed oil and gas lease sales in the Eastern Planning Area (EPA) Outer Continental Shelf (OCS) of the Gulf of Mexico (GOM).

FOR FURTHER INFORMATION CONTACT: Minerals Management Service, Gulf of Mexico OCS Region, 1201 Elmwood Park Boulevard, New Orleans, Louisiana 70123-2394, Mr. Dennis Chew, telephone (504) 736-2793.

SUPPLEMENTARY INFORMATION: This EIS addresses two proposed Federal actions that offer for lease OCS areas in the EPA of the GOM that may contain economically recoverable oil and gas resources. Federal regulations allow for several related or similar proposals to be analyzed in one EIS (40 CFR 1502.4). Since each proposed lease sale and their projected activities are very similar, a single EIS is being prepared for the two proposed EPA lease sales scheduled in the Outer Continental Shelf Oil and Gas Leasing Program: 2002-2007 (the 5-Year Program). Under the 5-Year Program, proposed lease sale 189 is scheduled for 2003, while proposed lease sale 197 is scheduled for 2005. At the completion of this EIS process, a decision will be made only for proposed lease sale 189. An additional National Environmental Policy Act (NEPA) review will be conducted in the year prior to proposed lease sale 197 to address any new information relevant to that proposed action.

EIS Availability: To find out which libraries along the Gulf of Mexico coast have copies of the draft EIS for review or to obtain single copies of the draft EIS, you may contact the Minerals Management Service, Gulf of Mexico OCS Region, Public Information Office (MS 5034), 1201 Elmwood Park Boulevard, Room 114, New Orleans, Louisiana 70123-2394 (1-800-200-GULF). A list of libraries and their locations is also available on the MMS Internet web site at http://www.mms.gov.

Public Hearings: Two public hearings will be held in order to receive comments on the draft EIS: on Wednesday, January 8, 2003, 1 p.m., at the Hampton Inn and Suites, 5150 Mounes Street, Harahan, Louisiana 70123, and Thursday, January 9, 2003, 2 p.m., at the Adams Mark Hotel, 64 South Water Street, Mobile, Alabama. If you wish to testify at a hearing, you may register one hour prior to the meeting. Each hearing will briefly recess when all speakers have had an opportunity to testify. If there are no additional speakers, the meeting will adjourn immediately after the recess. Written statements submitted at a hearing will be considered part of the hearing record. If you are unable to attend the hearings, you may submit written statements until January 24, 2003. Send written statements to the Regional Director (MS 5412), Minerals Management Service, 1201 Elmwood Park Boulevard, New Orleans, Louisiana 70123-2394 or to email address: environment@mms.gov.

Dated: November 15, 2002.
Thomas A. Readinger,
Associate Director for Offshore Minerals Management.
Approved:
Dated: November 18, 2002.
Willie R. Taylor,
Director, Office of Environmental Policy and Compliance.

[FR Doc. 02-29769 Filed 11-21-02; 8:45 am]

BILLING CODE 4310-MR-P